DEPARTMENT OF VETERANS AFFAIRS

VA National Academic Affiliations Council; Notice of Establishment

As required by Section 9(a)(2) of the Federal Advisory Committee Act, the Department of Veterans Affairs hereby gives notice of the establishment of the Department of Veterans Affairs (VA) National Academic Affiliations Council. The Secretary of Veterans Affairs has determined that establishing the Council is both necessary and in the public interest.

The Council will advise the Secretary and the Under Secretary for Health on matters affecting partnerships between VA and its academic affiliates. The Council will provide a forum for discussion and will benefit both VA and the academic community.

Council members will be appointed by the Secretary and will be drawn from all sectors of the academic health professions community including deans, distinguished faculty, health care administrators and leaders of professional associations and organizations.

Any member of the public seeking additional information should contact Dr. Gloria Holland, Special Assistant for Policy and Planning, Veterans Health Administration (14), Department of Veterans Affairs, 810 Vermont Avenue, NW., Washington, DC, or e-mail at Gloria.Holland@va.gov; or phone at (202) 461-9584.

Dated: October 5, 2011.
By Direction of the Secretary.
Vivian Drake,
Committee Management Officer.

[FR Doc. 2011-26196 Filed 10-11-11; 8:45 am]

BILLING CODE 8320-01-P